DEPARTMENT OF COMMERCE

Bureau of Industry and Security

Action Affecting Export Privileges; Khalid Mahmood; In the Matter of Khalid Mahmood, 11505 Blue Ridge Drive, Beltsville, MD 20750, Respondent

Order Relating to Khalid Mahmood

The Bureau of Industry and Security, U.S. Department of Commerce (“BIS”) has notified Khalid Mahmood (hereinafter referred to as “Mahmood”) of its intention to initiate an administrative proceeding against Mahmood pursuant to Section 766.3 of the Export Administration Regulations (currently codified at 15 CFR parts 730-774 (2006)) (“Regulations”) ¹ and Section 13(c) of the Export Administration Act of 1979, as amended (50 U.S.C. app. sections 2401-2420 (2000)) (“Act”),² by issuing a proposed charging letter to Mahmood that alleged that Mahmood committed six violations of the Regulations. Specifically, the charges are:

¹ The violations charged occurred between 2003 and 2004. The Regulations governing the violations at issue are found in the 2003-2004 versions of the Code of Federal Regulations (15 CFR part 730-774 (2003-2004)). The 2006 Regulations govern the procedural aspects of the case.

² Since August 21, 2001, the Act has been in lapse and the President, through Executive Order 13222 of August 17, 2001 (3 CFR, 2001 Comp. 783 (2002)), which has been extended by successive Presidential Notices, the most recent being that of August 2, 2006 (71 FR 44,551 (Aug. 7, 2006)), has continued the Regulations in effect under the International Emergency Economic Powers Act (50 U.S.C. 1701-1706 (2000)) (“IEEPA”).

Charge 1 15 CFR 764.2(d)—Conspiracy To Violate the Regulations

Beginning in or about February 2003 and continuing through in or about December 2004, Mahmood acted in concert with others, known and unknown, to do or bring about an act that violates the Regulations. The purpose of the conspiracy was to export lift truck parts (“parts”) items subject to the Regulations (“EAR 99” ³) and the Iranian Transactions Regulations,⁴ from the United States to Iran without the required U.S. Government authorization. In furtherance of the conspiracy, Mahmood facilitated the export of parts from the United States through the United Arab Emirates (“UAE”) to Iran. Pursuant to Section 746.7 of the Regulations, authorization was required from the Office of Foreign Assets Control, U.S. Department of Treasury (“OFAC”) before the parts could be exported to Iran. Failure to obtain authorization from OFAC is a violation of the Regulations. In so doing, Mahmood committed one violation of Section 764.2(d) of the Regulations.

³ EAR 99 is a designation for items subject to the Regulations that are not listed on the Commerce Control List.

⁴ The Iranian Transactions Regulations are currently codified in the Code of Federal Regulations at 31 CFR part 560 (2006).

Charges 2-6 15 CFR 764.2(b)—Causing the Export of Lift Truck Parts to Iran Without the Required Authorizations

On five occasions between on or about March 28, 2003 and on or about December 18, 2003, Mahmood caused the doing of an act prohibited by the Regulations. Specifically, Mahmood coordinated the shipping of parts, items subject to the Regulations (“EAR 99”) and the Iranian Transactions Regulations, from the United States to Iran through the UAE without the required U.S. Government authorizations. Pursuant to Section 560.204 of the Iranian Transactions Regulations, an export to a third country intended for transshipment to Iran is a transaction subject to the Iranian Transactions Regulations. Pursuant to Section 746.7 of the Regulations, authorization was required from OFAC for the shipment of the parts from the United States to Iran. Failure to obtain authorization from OFAC is a violation of the Regulations. By causing these exports in this manner, Mahmood committed five violations of Section 764.2(b) of the Regulations.

Whereas, BIS and Mahmood have entered into a Settlement Agreement pursuant to Section 766.18(a) of the Regulations whereby they agreed to settle this matter in accordance with the terms and conditions set forth therein, and

Whereas, I have approved the terms of such Settlement Agreement;

It is therefore ordered:

First, that for a period of ten years from the date of entry of this Order, Khalid Mahmood, 11505 Blue Ridge Drive, Beltsville, MD 20750, and when acting for or on behalf of Mahmood, his representatives or agents (“Denied Person”) may not, directly or indirectly, participate in any way in any transaction involving any commodity, software, or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

Second, that no person may, directly or indirectly, do any of the following:

A. Export or reexport to or on behalf of the Denied Person any items subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Third, that, after notice and opportunity for comment as provided in Section 766.23 of the Regulations, any person, firm, corporation, or business organization related to Mahmood by affiliation, ownership, control, or position of responsibility in the conduct of trade or related services may also be made subject to the provisions of the Order.

Fourth, that this Order does not prohibit any export, reexport, or other transaction subject to the Regulations where the only items involved that are subject to the Regulations are the foreign-produced direct product of U.S.-origin technology.

Fifth, that the proposed charging letter, the Settlement Agreement, and this Order shall be made available to the public.

Sixth, that this Order shall be served on the Denied Person and on BIS, and shall be published in the Federal Register.

This Order, which constitutes the final agency action in this matter, is effective immediately.

Entered this 2nd day of May 2007.
Darryl W. Jackson,
Assistant Secretary of Commerce for Export Enforcement.

[FR Doc. 07-2322 Filed 5-10-07; 8:45 am]

BILLING CODE 3510-OT-M